POSTAL SERVICE

39 CFR Part 20

Global Express Guaranteed

AGENCY: Postal Service.

ACTION: Amendment to interim rule.

SUMMARY: The Postal Service is amending the interim rule on Priority Mail Global Guaranteed service to establish it as a permanent international mail service, to announce a name change, and to expand the service to include a new classification for non-document (merchandise) shipments. This interim rule will also extend the optional insurance coverage to non-documents and establish and publish rates for the non-document service. This interim rule corrects and amends the interim rule published on August 28, 2000, 65 FR 52023-52028.

EFFECTIVE DATE: October 1, 2000. Comments on the amendment to the interim rule must be received on or before Ocotber 30, 2000.

ADDRESSES: Written comments should be mailed or delivered to Business Initiatives, Expedited/Package Services, U.S. Postal Service, 200 E Mansell Court, Suite 300, Roswell GA 30076-4850. Copies of all written comments will be available for public inspection between 9 a.m. and 4 p.m., Monday through Friday, in Business Initiatives, 200 E Mansell Court, Suite 300, Roswell GA.

FOR FURTHER INFORMATION CONTACT: Malcolm E. Hunt, (770) 360-1104.

SUPPLEMENTARY INFORMATION: On April 19, 1999, the Postal Service announced in the Federal Register (64 FR 19039-19042) the introduction of Priority Mail Global Guaranteed (PMGG) service on an interim basis. With PMGG, the USPS provided customers with a fully featured premium international service for documents with full track and trace capability. This service was initially available from 3,000 retail locations for delivery to a total of 19 countries.

On November 4, 1999, the Postal Service announced in the Federal Register (64 FR 60106-60109) the expansion of PMGG service to permit acceptance at a total of 10,000 retail locations, with destinating locations being expanded to 65 countries and territories.

On May 26, 2000, the Postal Service announced in the Federal Register (65 FR 34096-34101) the further expansion of PMGG service to a total of 202 destinating countries and territories. A revised rate structure was also introduced.

On August 28, 2000, the Postal Service announced in the Federal Register (65 FR 52023-52028) a further expansion of PMGG service. The number of retail locations was increased to a total of 20,000, document service rates were adjusted, optional document reconstruction insurance was increased to $2,499, and delivery service was extended to China. An incorrect listing of 3-digit ZIP Codes was included in the list of participating post offices in this rule. The correct list of participating post offices by 3-digit ZIP Code is incorporated in this interim rule.

Based on the successive and successful expansion of PMGG service, the Postal Service has determined to establish it as a permanent international mail service. To effectuate this change, the Postal Service is changing the name of the service to Global Express Guaranteed (GXG) and completing the expansion to include a new classification for merchandise shipments. GXG will now consist of two mail classifications:

a. GXG Document service.

b. GXG Non-Document service.

The GXG Document service mail classification is for shipments that contain only documents and general correspondence for which no duty is assessed by the customs authority of the destinating country. This mail classification is a designated letter mail class pursuant to 39 U.S.C. 3623(d) and, as such, is sealed against inspection by the Postal Service. These Document service shipments may be subject to inspection in the destinating country for purposes of compliance with the customs requirements of the destinating country. The rate structure for Document service is separate and distinct from the rate structure for Non-Document service.

The GXG Non-Document service mail classification is for shipments that do not contain documents or general correspondence and for which duty may be assessed by the customs authority of the destinating country. Merchandise and all other dutiable items may be shipped using only this GXG classification. As such, this mail classification is not a letter mail class pursuant to 39 U.S.C. 3623(d). In order to provide for expedited customs clearance of these dutiable shipments, Non-Document service shipments will be subject to inspection by, among others, the Postal Service and its designated agents for purposes of aviation (air) security and to determine that the contents are eligible for shipment via Non-Document service and that the contents are adequately declared on the GXG Air Waybill/Shipping Invoice to permit expedited customs clearance. These Non-Document service shipments may also be subject to inspection in the destinating country for purposes of compliance with the customs requirements of the destinating country. The rate structure for Non-Document service is separate and distinct from the rate structure for Document service and reflects the generally higher costs inherent with handling dutiable shipments. Non-Document service is not available to some countries to which Document service is provided. See the following listing of destinating countries for specific availability.

Destinating Countries and Rate Groups

For rate purposes, destinating countries and territories have been placed into one of eight rate groups as set forth below.

Country | Document service rate group | Non-document service rate group
Afghanistan | (¹) | (¹)
Albania | 8 | 8
Algeria | 8 | 8
Andorra | 6 | 6
Angola | 8 | 8
Anguilla | 7 | 7
Antigua & Barbuda | 7 | 7
Argentina | 5 | 5
Armenia | 8 | 8
Aruba | 7 | 7
Ascension | (¹) | (¹)
Australia | 4 | 4
Austria | 6 | 6
Azerbaijan | 8 | 8
Bahamas | 7 | 7
Bahrain | 4 | 4
Bangladesh | 4 | 4
Barbados | 7 | 7
Belarus | 8 | 8
Belgium | 3 | 3
Belize | 5 | 5
Benin | 8 | 8
Bermuda | 7 | 7
Bhutan | 5 | 5
Bolivia | 5 | 5
Bosnia-Herzegovina | 8 | 8
Botswana | 8 | 8
Brazil | 5 | 5
British Virgin Islands | 7 | 7
Brunei Darussalam | 8 | 8
Bulgaria | 8 | 8
Burkina Faso | 8 | 8
Burma (Myanmar) | 8 | 8
Burundi | 8 | 8
Cambodia | 8 | 8
Cameroon | 8 | 8
Canada | 1 | 1
Cape Verde | 8 | 8
Cayman Islands | 7 | 7
Central African Republic | 8 | 8
Chad | 8 | 8
Chile | 5 | 5
China | 4 | 4
Colombia | 5 | 5
Comoros | 8 | 8
Congo, Democratic Republic of the | 8 | 8
Congo, Republic of the (Brazzaville) | 8 | 8
Costa Rica | 5 | 5
Cote d'Ivoire (Ivory Coast) | 8 | 8
Croatia | 8 | 8
Cuba | 8 | (¹)
Cyprus | 4 | 4
Czech Republic | 8 | 8
Denmark | 6 | 6
Djibouti | 8 | 8
Dominica | 7 | 7
Dominican Republic | 7 | 7
Ecuador | 5 | 5
Egypt | 4 | (¹)
El Salvador | 5 | 5
Equatorial Guinea | 8 | 8
Eritrea | 8 | 8
Estonia | 8 | 8
Ethiopia | 8 | 8
Falkland Islands | 5 | 5
Faroe Islands | 6 | 6
Fiji | 5 | 5
Finland | 6 | 6
France | 3 | 3
French Guiana | 5 | (¹)
French Polynesia | 8 | 8
Gabon | 8 | 8
Gambia | 8 | 8
Georgia, Republic of | 8 | 8
Germany | 3 | 3
Ghana | 8 | 8
Gibraltar | 6 | 6
Great Britain & Northern Ireland | 3 | 3
Greece | 6 | 6
Greenland | 6 | 6
Grenada | 7 | 7
Guadeloupe | 7 | 7
Guatemala | 5 | 5
Guinea | 8 | 8
Guinea-Bissau | 8 | 8
Guyana | 5 | 5
Haiti | 7 | 7
Honduras | 5 | 5
Hong Kong | 3 | 3
Hungary | 8 | 8
Iceland | 6 | 6
India | 4 | 4
Indonesia | 4 | 4
Iran | 4 | (¹)
Iraq | (¹) | (¹)
Ireland (Eire) | 3 | 3
Israel | 4 | 4
Italy | 3 | 3
Jamaica | 7 | 7
Japan | (¹) | (¹)
Jordan | 4 | 4
Kazakhstan | 8 | 8
Kenya | 8 | 8
Kiribati | 8 | 8
Korea, Democratic People's Republic of (North) | (¹) | (¹)
Korea, Republic of (South) | 4 | 4
Kuwait | 4 | 4
Kyrgyzstan | 8 | 8
Laos | 8 | 8
Latvia | 8 | 8
Lebanon | 4 | 4
Lesotho | 8 | 8
Liberia | 8 | 8
Libya | (¹) | (¹)
Liechtenstein | 6 | 6
Lithuania | 8 | 8
Luxembourg | 3 | 3
Macao | 3 | 3
Macedonia, Republic of | 8 | 8
Madagascar | 8 | 8
Malawi | 8 | 8
Malaysia | 4 | 4
Maldives | 8 | 8
Mali | 8 | 8
Malta | 6 | 6
Martinique | 7 | 7
Mauritania | 8 | 8
Mauritius | 8 | 8
Mexico | 2 | 2
Moldova | 8 | 8
Mongolia | 8 | 8
Montserrat | 7 | 7
Morocco | 8 | 8
Mozambique | 8 | 8
Namibia | 8 | 8
Nauru | 8 | 8
Nepal | 8 | 8
Netherlands | 3 | 3
Netherlands Antilles | 7 | 7
New Caledonia | 5 | 5
New Zealand | 4 | 4
Nicaragua | 5 | 5
Niger | 8 | 8
Nigeria | 8 | 8
Norway | 6 | 6
Oman | 4 | 4
Pakistan | 4 | 4
Panama | 5 | 5
Papua New Guinea | 5 | 5
Paraguay | 5 | 5
Peru | 5 | 5
Philippines | 4 | 4
Pitcairn Island | (¹) | (¹)
Poland | 8 | 8
Portugal | 6 | 6
Qatar | 4 | 4
Reunion | 8 | 8
Romania | 8 | 8
Russia | 8 | 8
Rwanda | 8 | 8
St. Christopher (St. Kitts) & Nevis | 7 | 7
Saint Helena | (¹) | (¹)
Saint Lucia | 7 | 7
Saint Pierre & Miquelon | 1 | 1
Saint Vincent & Grenadines | 7 | 7
San Marino | 3 | 3
Sao Tome & Principe | 8 | 8
Saudi Arabia | 4 | 4
Senegal | 8 | 8
Serbia-Montenegro (Yugoslavia) | 8 | 8
Seychelles | 8 | 8
Sierra Leone | 8 | 8
Singapore | 3 | 3
Slovak Republic (Slovakia) | 8 | 8
Slovenia | 8 | 8
Solomon Islands | 8 | 8
Somalia | 8 | 8
South Africa | 8 | 8
Spain | 6 | 6
Sri Lanka | 4 | 4
Sudan | (¹) | (¹)
Suriname | 5 | 5
Swaziland | 8 | 8
Sweden | 6 | 6
Switzerland | 6 | 6
Syrian Arab Republic (Syria) | 4 | (¹)
Taiwan | 3 | 3
Tajikistan | 8 | 8
Tanzania | 8 | 8
Thailand | 4 | 4
Togo | 8 | 8
Tonga | 8 | 8
Trinidad & Tobago | 7 | 7
Tristan da Cunha | (¹) | (¹)
Tunisia | 8 | 8
Turkey | 4 | 4
Turkmenistan | 8 | 8
Turks & Caicos Islands | 7 | 7
Tuvalu | 8 | 8
Uganda | 8 | 8
Ukraine | 8 | 8
United Arab Emirates | 4 | 4
Uruguay | 5 | 5
Uzbekistan | 8 | 8
Vanuatu | 5 | 5
Vatican City | 3 | 3
Venezuela | 5 | 5
Vietnam | 4 | 4
Wallis & Futuna Islands | 4 | 4
Western Samoa | 4 | 4
Yemen | 4 | 4
Zambia | 8 | 8
Zimbabwe | 8 | 8
¹ No service.

Although the Postal Service is exempted by 39 U.S.C. 410(a) from the advance notice requirements of the Administrative Procedure Act regarding proposed rulemaking (5 U.S.C. 553), the Postal Service invites public comment on the amendment to the interim rule at the above address.

The Postal Service is amending the International Mail Manual, which is incorporated by reference in the Code of Federal Regulations. See 39 CFR 20.1.

A transmittal letter changing the relevant pages in the International Mail Manual will be published and automatically transmitted to all subscribers. Notice of issuance of the transmittal will be published in the Federal Register as provided by 39 CFR 20.3.

On or about September 26, 2000, the Postal Service announced in the Federal Register a proposed rule that would amend and renumber provisions in the International Mail Manual. If that rule is adopted, GXG will be found in Section 210 of chapter 2 of the International Mail Manual.

List of Subjects in 39 CFR Part 20

Foreign relations, International postal service.

PART 20—[AMENDED]

1. The authority citation for 39 CFR Part 20 continues to read as follows:

Authority: 5 U.S.C. 552(a); 39 U.S.C. 401, 404, 407, 408.

2. Chapter 2 of the International Mail Manual is amended as follows:

2 CONDITIONS FOR MAILING

210 EXPRESS MAIL INTERNATIONAL SERVICE

215 GLOBAL EXPRESS GUARANTEED

215.1 Description

215.11 General

Global Express Guaranteed (GXG) service is an international expedited delivery service provided through an alliance with DHL Worldwide Express, Inc. It provides reliable, high-speed, guaranteed, and time-definite service from selected post offices in the United States to a large number of international destinations. (See Countries and Cities Served Section of the Global Express Guaranteed Service Guide for destination service commitments.) GXG delivery service is guaranteed to meet the specified service standards or the postage paid may be refunded. Liability insurance is provided for lost or damaged shipments. See 215.54.

215.12 Allowable Contents

Documents and general correspondence (non-dutiable items) and non-documents (all dutiable items including merchandise) may be shipped using GXG service. See 215.2 for classification and rate treatment of specific shipments based on content. The allowable contents for GXG shipments may also be restricted by the destinating country. Refer to the Global Express Guaranteed Service Guide for the definition of allowable contents for each destinating country. Senders are responsible for determining if their item is allowable despite any statement made in the Global Express Guaranteed Service Guide, GXG Website, or by a postal employee or the Postal Service's agents.

215.2 Mail Classifications

215.21 Global Express Guaranteed Document Service

The GXG Document service mail classification is for shipments that contain only documents and general correspondence for which no duty is assessed by the customs authority of the destinating country (non-dutiable shipments). Packages shipped by GXG Document service are sealed against inspection by the Postal Service or other U.S. agencies and authorities. These Document service shipments may be subject to inspection in the destinating country for purposes of compliance with the customs requirements of the destinating country. The postage rates applicable to Document service shipments are set forth in 215.61 and are separate and distinct from the postage rates for Non-Document service.

215.22 Global Express Guaranteed Non-Document Service

The GXG Non-Document service mail classification is for shipments that do not contain documents or general correspondence and for which duty may be assessed by the customs authority of the destinating country. Merchandise and all other dutiable items may be shipped using only this GXG classification. Non-Document service shipments are not sealed against inspection under 39 U.S.C. 3623(d). Non-Document service shipments will be subject to inspection by the Postal Service and its designated agents for purposes of aviation (air) security and to determine that the contents are eligible for shipment via Non-Document service and that the contents are adequately declared on the GXG Air Waybill/Shipping Invoice to permit expedited customs clearance. These Non-Document service shipments may also be subject to inspection in the destinating country for purposes of compliance with the customs requirements of the destinating country. Non-Document service is not available to some countries to which Document service is provided. See the listing of destinating countries in 215.32 for specific availability. The postage rates applicable to Non-Document service shipments are set forth in 215.62 and are separate and distinct from the postage rates for Document service.

215.3 Service Areas

215.31 Origins

GXG items must be entered through selected post offices that are located in the following ZIP Code areas. Check with your local post office or review the Global Express Guaranteed Service Guide for a participating post office near you.

State | ZIP Code Areas
AL—Alabama | 352, 356-358, 361-362, 366, 368.
AR—Arkansas | 722-723.
AZ—Arizona | 850, 852-853, 857.
CA—California | 900, 902-908, 910-922, 926-928, 937, 939-941, 943-951, 954.
CO—Colorado | 800-803, 805-806, 808-810.
CT—Connecticut | 060-069.
DC—District of Columbia | 200, 202-203, 205.
DE—Delaware | 197-199.
FL—Florida | 320-323, 326-338, 342, 344, 346-347, 349.
GA—Georgia | 300-319.
IA—Iowa | 500-504, 506-507, 510-511, 515-516, 520, 522-528.
IL—Illinois | 600-620, 622, 625-627, 629.
IN—Indiana | 460-479.
KS—Kansas | 660-662, 667, 674, 676.
KY—Kentucky | 400-406, 410-416, 421-424, 427.
LA—Louisiana | 700-701, 703-704, 707-708.
MA—Massachusetts | 010-027.
MD—Maryland | 206-212, 214, 217, 219.
ME—Maine | 039-041.
MI—Michigan | 480-497.
MN—Minnesota | 550-551, 553-554, 558-563.
MO—Missouri | 630-631, 633, 636-641, 644-648, 654-658.
MS—Mississippi | 383, 386, 389, 392, 394-395.
MT—Montana | 591.
NC—North Carolina | 270-282, 286.
NE—Nebraska | 680-681, 685-687.
NH—New Hampshire | 010-011, 030-034, 036-038.
NJ—New Jersey | 070-089.
NM—New Mexico | 871.
NY—New York | 100-101, 103-149.
OH—Ohio | 430-458.
OK—Oklahoma | 730-731, 734-738, 740-741, 743-748.
OR—Oregon | 972.
PA—Pennsylvania | 150-176, 178-179, 189-191, 193-196.
PR—Puerto Rico | 006-007, 009.
RI—Rhode Island | 028-029.
SC—South Carolina | 297-299.
SD—South Dakota | 570-571.
TN—Tennessee | 370-374, 376-385.
TX—Texas | 750-756, 759-764, 768-770, 772-778, 780-782, 784, 791, 794-796.
UT—Utah | 840-841, 843-847.
VA—Virginia | 201, 220-227, 230-239.
VI—Virgin Islands | 008.
VT—Vermont | 054, 056.
WA—Washington | 980-985, 988-989.
WI—Wisconsin | 530-532, 534, 537, 540, 543, 546-549.
WV—West Virginia | 250-257, 260, 267.
WY—Wyoming | 820.

215.32 Destinating Countries and Rate Groups

GXG service is available to the following destinating countries and territories. For rate purposes, countries have been placed into one of eight rate groups.

Country | Document Service Rate Group | Non-Document Service Rate Group
Afghanistan | (¹) | (¹)
Albania | 8 | 8
Algeria | 8 | 8
Andorra | 6 | 6
Angola | 8 | 8
Anguilla | 7 | 7
Antigua & Barbuda | 7 | 7
Argentina | 5 | 5
Armenia | 8 | 8
Aruba | 7 | 7
Ascension | (¹) | (¹)
Australia | 4 | 4
Austria | 6 | 6
Azerbaijan | 8 | 8
Bahamas | 7 | 7
Bahrain | 4 | 4
Bangladesh | 4 | 4
Barbados | 7 | 7
Belarus | 8 | 8
Belgium | 3 | 3
Belize | 5 | 5
Benin | 8 | 8
Bermuda | 7 | 7
Bhutan | 5 | 5
Bolivia | 5 | 5
Bosnia-Herzegovina | 8 | 8
Botswana | 8 | 8
Brazil | 5 | 5
British Virgin Islands | 7 | 7
Brunei Darussalam | 8 | 8
Bulgaria | 8 | 8
Burkina Faso | 8 | 8
Burma (Myanmar) | 8 | 8
Burundi | 8 | 8
Cambodia | 8 | 8
Cameroon | 8 | 8
Canada | 1 | 1
Cape Verde | 8 | 8
Cayman Islands | 7 | 7
Central African Republic | 8 | 8
Chad | 8 | 8
Chile | 5 | 5
China | 4 | 4
Colombia | 5 | 5
Comoros | 8 | 8
Congo, Democratic Republic of the | 8 | 8
Congo, Republic of the (Brazzaville) | 8 | 8
Costa Rica | 5 | 5
Cote d'Ivoire (Ivory Coast) | 8 | 8
Croatia | 8 | 8
Cuba | 8 | (¹)
Cyprus | 4 | 4
Czech Republic | 8 | 8
Denmark | 6 | 6
Djibouti | 8 | 8
Dominica | 7 | 7
Dominican Republic | 7 | 7
Ecuador | 5 | 5
Egypt | 4 | (¹)
El Salvador | 5 | 5
Equatorial Guinea | 8 | 8
Eritrea | 8 | 8
Estonia | 8 | 8
Ethiopia | 8 | 8
Falkland Islands | 5 | 5
Faroe Islands | 6 | 6
Fiji | 5 | 5
Finland | 6 | 6
France | 3 | 3
French Guiana | 5 | (¹)
French Polynesia | 8 | 8
Gabon | 8 | 8
Gambia | 8 | 8
Georgia, Republic of | 8 | 8
Germany | 3 | 3
Ghana | 8 | 8
Gibraltar | 6 | 6
Great Britain & Northern Ireland | 3 | 3
Greece | 6 | 6
Greenland | 6 | 6
Grenada | 7 | 7
Guadeloupe | 7 | 7
Guatemala | 5 | 5
Guinea | 8 | 8
Guinea-Bissau | 8 | 8
Guyana | 5 | 5
Haiti | 7 | 7
Honduras | 5 | 5
Hong Kong | 3 | 3
Hungary | 8 | 8
Iceland | 6 | 6
India | 4 | 4
Indonesia | 4 | 4
Iran | 4 | (¹)
Iraq | (¹) | (¹)
Ireland (Eire) | 3 | 3
Israel | 4 | 4
Italy | 3 | 3
Jamaica | 7 | 7
Japan | (¹) | (¹)
Jordan | 4 | 4
Kazakhstan | 8 | 8
Kenya | 8 | 8
Kiribati | 8 | 8
Korea, Democratic People's Republic of (North) | (¹) | (¹)
Korea, Republic of (South) | 4 | 4
Kuwait | 4 | 4
Kyrgyzstan | 8 | 8
Laos | 8 | 8
Latvia | 8 | 8
Lebanon | 4 | 4
Lesotho | 8 | 8
Liberia | 8 | 8
Libya | (¹) | (¹)
Liechtenstein | 6 | 6
Lithuania | 8 | 8
Luxembourg | 3 | 3
Macao | 3 | 3
Macedonia, Republic of | 8 | 8
Madagascar | 8 | 8
Malawi | 8 | 8
Malaysia | 4 | 4
Maldives | 8 | 8
Mali | 8 | 8
Malta | 6 | 6
Martinique | 7 | 7
Mauritania | 8 | 8
Mauritius | 8 | 8
Mexico | 2 | 2
Moldova | 8 | 8
Mongolia | 8 | 8
Montserrat | 7 | 7
Morocco | 8 | 8
Mozambique | 8 | 8
Namibia | 8 | 8
Nauru | 8 | 8
Nepal | 8 | 8
Netherlands | 3 | 3
Netherlands Antilles | 7 | 7
New Caledonia | 5 | 5
New Zealand | 4 | 4
Nicaragua | 5 | 5
Niger | 8 | 8
Nigeria | 8 | 8
Norway | 6 | 6
Oman | 4 | 4
Pakistan | 4 | 4
Panama | 5 | 5
Papua New Guinea | 5 | 5
Paraguay | 5 | 5
Peru | 5 | 5
Philippines | 4 | 4
Pitcairn Island | (¹) | (¹)
Poland | 8 | 8
Portugal | 6 | 6
Qatar | 4 | 4
Reunion | 8 | 8
Romania | 8 | 8
Russia | 8 | 8
Rwanda | 8 | 8
St. Christopher (St. Kitts) & Nevis | 7 | 7
Saint Helena | (¹) | (¹)
Saint Lucia | 7 | 7
Saint Pierre & Miquelon | 1 | 1
Saint Vincent & Grenadines | 7 | 7
San Marino | 3 | 3
Sao Tome & Principe | 8 | 8
Saudi Arabia | 4 | 4
Senegal | 8 | 8
Serbia-Montenegro (Yugoslavia) | 8 | 8
Seychelles | 8 | 8
Sierra Leone | 8 | 8
Singapore | 3 | 3
Slovak Republic (Slovakia) | 8 | 8
Slovenia | 8 | 8
Solomon Islands | 8 | 8
Somalia | 8 | 8
South Africa | 8 | 8
Spain | 6 | 6
Sri Lanka | 4 | 4
Sudan | (¹) | (¹)
Suriname | 5 | 5
Swaziland | 8 | 8
Sweden | 6 | 6
Switzerland | 6 | 6
Syrian Arab Republic (Syria) | 4 | (¹)
Taiwan | 3 | 3
Tajikistan | 8 | 8
Tanzania | 8 | 8
Thailand | 4 | 4
Togo | 8 | 8
Tonga | 8 | 8
Trinidad & Tobago | 7 | 7
Tristan da Cunha | (¹) | (¹)
Tunisia | 8 | 8
Turkey | 4 | 4
Turkmenistan | 8 | 8
Turks & Caicos Islands | 7 | 7
Tuvalu | 8 | 8
Uganda | 8 | 8
Ukraine | 8 | 8
United Arab Emirates | 4 | 4
Uruguay | 5 | 5
Uzbekistan | 8 | 8
Vanuatu | 5 | 5
Vatican City | 3 | 3
Venezuela | 5 | 5
Vietnam | 4 | 4
Wallis & Futuna Islands | 4 | 4
Western Samoa | 4 | 4
Yemen | 4 | 4
Zambia | 8 | 8
Zimbabwe | 8 | 8
¹ No service.

GXG service is available to all locations that are referenced in the Individual Country Listings except for the following:

Afghanistan

Ascension

Iraq

Japan

Korea, Democratic People's Republic of (North)

Libya

Pitcairn Island

Saint Helena

Sudan

Tristan de Cunha

The following countries are limited to GXG Document service only:

Cuba

Egypt

French Guiana

Iran

Syrian Arab Republic (Syria)

215.4 Service Guarantee

215.41 General

The Postal Service guarantees delivery within the service standards specified in the Global Express Guaranteed Service Guide or the sender may be entitled to a full refund of the postage paid. For the purpose of the service guarantee, the date and time of delivery, attempted delivery, or availability for delivery constitutes delivery.

215.42 Transit Days for Non-Document Service

For GXG Non-Document service, total transit days may be affected by general customs delays, specific customs commodity delays, holidays observed in the destinating country, and other factors beyond the Postal Service's control. See Terms and Conditions on the GXG Air Waybill/Shipping Invoice or in the Global Express Guaranteed Service Guide for details.

215.5 Inquiries, Postage Refunds, and Indemnity Claims

215.51 Inquiries

Inquiries concerning the delivery of GXG items are made by calling 800-222-1811 or through the Postal Service Website.

215.52 Postage Refunds

Postage may be refunded if a shipment tendered at a designated post office before the specified deposit time is not delivered or if delivery is not attempted before 5:00 p.m. local time in the delivery location in accordance with the guaranteed delivery standards in the Global Express Guaranteed Service Guide. The mailer may file requests for postage refunds only by contacting a customer service representative at 800-222-1811. The original receipt of the GXG Air Waybill/Shipping Invoice is required when filing a claim for a postage refund. Requests for postage refunds must be made no later than 30 days from the date of shipment. The GXG customer service office will adjudicate refunds for GXG. The GXG customer service office can be contacted at 800-222-1811. Final approval and payment will be made by the Postal Service.

Refunds will not be made if delivery was attempted but could not be made, if the delivery address was incomplete or inaccurate, or if the shipment was delayed by circumstances outside the control of the Postal Service or its agents (as defined in the Global Express Guaranteed Service Guide).

215.53 Indemnity Claims

215.531 Claims for Document Service Shipments

If a Document service shipment is lost or damaged, the sender may file a claim for document reconstruction costs, subject to 215.54. All claims must be initiated within 30 days of the shipment date by contacting a customer service representative at 800-222-1811. The representative will provide more details on how to file a claim. The original receipt of the GXG Air Waybill/Shipping Invoice must be included when filing a claim. Consult the Global Express Guaranteed Service Guide for limitations and restrictions on indemnity payments for GXG items. The GXG customer service office will adjudicate refunds for GXG. The GXG customer service office can be contacted at 800-222-1811. Final approval and payment will be made by the Postal Service.

215.532 Claims for Non-Document Service Shipments

If a Non-Document service shipment is lost or damaged, the sender may file a claim for the declared value of the shipment costs, subject to 215.54. All claims must be initiated within 30 days of the shipment date by contacting a customer service representative at 800-222-1811. The representative will provide more details on how to file a claim. The original receipt of the GXG Air Waybill/Shipping Invoice must be included when filing a claim. Consult the Global Express Guaranteed Service Guide for limitations and restrictions on indemnity payments for GXG items. The GXG customer service office will adjudicate refunds for GXG. The GXG customer service office can be contacted at 800-222-1811. Final approval and payment will be made by the Postal Service.

215.54 Extent of Postal Service Liability for Lost or Damaged Contents

215.541 Document Service Shipments

Liability for a lost or damaged Document service shipment is limited to the lowest of the following:

a. $100 or the amount of additional optional insurance purchased.

b. The actual amount of the loss or damage.

c. The actual value of the contents.

“Actual value” means the lowest cost of replacing, reconstructing or reconstituting the Allowable Contents of the shipment (determined at the time and place of acceptance).

215.542 Non-Document Service Shipments

Liability for a lost or damaged Non-Document service shipment is limited to the lowest of the following:

a. $100 or the amount of additional optional insurance purchased.

b. The actual amount of the loss or damage.

c. The actual value of the contents.

“Actual value” means the lowest cost of replacing, reconstructing, or reconstituting the Allowable Contents of the shipment (determined at the time and place of acceptance).

215.55 Insurance

215.551 Insurance for Document Service Shipments

Document reconstruction insurance (the reasonable costs incurred in reconstructing duplicates of nonnegotiable documents mailed), up to $100 per shipment, is included at no additional charge. Additional document reconstruction insurance may be purchased for Document service shipments, as outlined in section 215.553, not to exceed the total cost of reconstruction, $2,499, or a lesser amount as limited by country, content, or value. Coverage, terms, and limitations are subject to change.

215.552 Insurance for Non-Document Service Shipments

Non-Document insurance for loss, damage, or rifling, up to $100 per shipment, is included at no additional charge. Additional Non-Document insurance may be purchased for shipments, as outlined in section 215.553, not to exceed the total declared shipment value, $2,499, or a lesser amount as limited by country, content, or value. Coverage, terms, and limitations are subject to change.

215.553 Insurance Fees

Insurance amount | Fee
$100 | No Fee.
$200 | $0.70.
$300 | $1.40.
$400 | $2.10.
$500 | $2.80.
For document reconstruction insurance or non-document insurance coverage above $500, add $0.70 per $100 or fraction thereof, up to a maximum of $2,499 per shipment. |
$2,499 | $16.80.

215.6 Postage

215.61 Document Service Rates/Groups

Weight not over (lbs.) | Rate group 1 | Rate group 2 | Rate group 3 | Rate group 4 | Rate group 5 | Rate group 6 | Rate group 7 | Rate group 8
0.5 | $19 | $20 | $24 | $29 | $40 | $28 | $24 | $60
1 | 28 | 28 | 30 | 38 | 46 | 41 | 35 | 68
2 | 33 | 35 | 38 | 47 | 56 | 51 | 41 | 79
3 | 35 | 41 | 45 | 54 | 70 | 57 | 48 | 91
4 | 38 | 45 | 53 | 61 | 84 | 63 | 54 | 102
5 | 41 | 50 | 61 | 68 | 97 | 70 | 60 | 114
6 | 43 | 53 | 67 | 75 | 110 | 75 | 65 | 126
7 | 46 | 56 | 71 | 81 | 122 | 81 | 70 | 138
8 | 48 | 60 | 75 | 88 | 134 | 86 | 74 | 150
9 | 50 | 63 | 80 | 95 | 147 | 91 | 79 | 162
10 | 53 | 65 | 84 | 99 | 156 | 97 | 82 | 170
11 | 55 | 68 | 87 | 104 | 166 | 100 | 86 | 181
12 | 57 | 71 | 91 | 110 | 176 | 104 | 90 | 193
13 | 60 | 74 | 94 | 115 | 186 | 108 | 94 | 205
14 | 62 | 76 | 98 | 120 | 196 | 112 | 98 | 216
15 | 64 | 79 | 101 | 125 | 205 | 116 | 102 | 228
16 | 67 | 82 | 104 | 131 | 214 | 120 | 106 | 239
17 | 69 | 84 | 108 | 136 | 222 | 124 | 110 | 250
18 | 71 | 87 | 111 | 141 | 229 | 128 | 114 | 261
19 | 74 | 90 | 115 | 146 | 237 | 132 | 118 | 272
20 | 76 | 92 | 118 | 151 | 244 | 136 | 122 | 283
21 | 78 | 95 | 121 | 156 | 251 | 139 | 126 | 292
22 | 80 | 97 | 125 | 161 | 259 | 143 | 130 | 301
23 | 82 | 100 | 128 | 166 | 266 | 147 | 134 | 308
24 | 85 | 103 | 132 | 171 | 274 | 151 | 138 | 315
25 | 87 | 105 | 135 | 176 | 281 | 155 | 142 | 323
26 | 89 | 108 | 138 | 181 | 289 | 159 | 146 | 330
27 | 91 | 110 | 142 | 185 | 296 | 163 | 150 | 337
28 | 93 | 113 | 145 | 190 | 304 | 167 | 153 | 345
29 | 95 | 115 | 148 | 195 | 311 | 171 | 157 | 352
30 | 98 | 119 | 153 | 202 | 322 | 177 | 163 | 363
31 | 100 | 122 | 157 | 207 | 329 | 181 | 167 | 371
32 | 102 | 124 | 160 | 212 | 337 | 185 | 171 | 378
33 | 104 | 126 | 164 | 217 | 344 | 189 | 175 | 386
34 | 107 | 127 | 167 | 222 | 352 | 193 | 179 | 393
35 | 109 | 129 | 170 | 227 | 360 | 197 | 183 | 401
36 | 111 | 131 | 174 | 231 | 367 | 201 | 187 | 408
37 | 113 | 133 | 177 | 236 | 375 | 205 | 191 | 416
38 | 115 | 135 | 181 | 241 | 382 | 209 | 195 | 423
39 | 117 | 137 | 184 | 246 | 389 | 213 | 199 | 430
40 | 119 | 139 | 187 | 251 | 395 | 217 | 203 | 438
41 | 121 | 141 | 191 | 256 | 402 | 221 | 207 | 445
42 | 125 | 143 | 194 | 261 | 409 | 225 | 211 | 453
43 | 127 | 145 | 198 | 266 | 416 | 229 | 215 | 460
44 | 129 | 146 | 201 | 271 | 423 | 233 | 219 | 468
45 | 132 | 148 | 205 | 275 | 430 | 237 | 223 | 475
46 | 134 | 150 | 208 | 280 | 437 | 241 | 227 | 482
47 | 136 | 151 | 211 | 285 | 443 | 245 | 231 | 490
48 | 138 | 153 | 215 | 290 | 450 | 249 | 235 | 497
49 | 141 | 155 | 218 | 295 | 457 | 253 | 239 | 505
50 | 143 | 158 | 224 | 303 | 469 | 259 | 245 | 518
51 | 147 | 160 | 227 | 308 | 476 | 259 | 249 | 533
52 | 149 | 160 | 231 | 313 | 483 | 267 | 253 | 533
53 | 151 | 164 | 234 | 318 | 490 | 271 | 257 | 549
54 | 154 | 164 | 238 | 323 | 497 | 275 | 261 | 549
55 | 155 | 167 | 241 | 328 | 504 | 278 | 265 | 562
56 | 157 | 167 | 245 | 333 | 511 | 283 | 270 | 562
57 | 157 | 170 | 248 | 338 | 518 | 286 | 274 | 574
58 | 157 | 170 | 251 | 343 | 524 | 291 | 278 | 574
59 | 157 | 173 | 255 | 348 | 531 | 294 | 282 | 587
60 | 157 | 173 | 258 | 353 | 538 | 299 | 285 | 587
61 | 164 | 176 | 262 | 358 | 545 | 302 | 290 | 602
62 | 165 | 176 | 265 | 362 | 551 | 308 | 292 | 602
63 | 167 | 179 | 269 | 367 | 559 | 310 | 298 | 617
64 | 168 | 179 | 272 | 372 | 562 | 316 | 298 | 617
65 | 169 | 182 | 276 | 377 | 573 | 318 | 305 | 632
66 | 169 | 182 | 279 | 382 | 573 | 324 | 305 | 632
67 | 169 | 186 | 282 | 387 | 584 | 326 | 313 | 647
68 | 169 | 186 | 286 | 392 | 584 | 332 | 313 | 647
69 | 169 | 189 | 289 | 397 | 595 | 334 | 320 | 662
70 | 169 | 189 | 293 | 402 | 595 | 340 | 320 | 662

215.62 Non-Document Service Rates/Groups

Weight not over (lbs.) | Rate group 1 | Rate group 2 | Rate group 3 | Rate group 4 | Rate group 5 | Rate group 6 | Rate group 7 | Rate group 8
1 | $33 | $34 | $39 | $45 | $52 | $47 | $40 | $75
2 | 38 | 40 | 46 | 52 | 65 | 55 | 46 | 89
3 | 40 | 46 | 53 | 59 | 79 | 62 | 53 | 101
4 | 43 | 50 | 60 | 66 | 93 | 68 | 59 | 112
5 | 46 | 55 | 67 | 73 | 106 | 75 | 65 | 124
6 | 48 | 58 | 72 | 80 | 119 | 80 | 70 | 136
7 | 51 | 61 | 76 | 86 | 131 | 86 | 75 | 148
8 | 53 | 65 | 80 | 93 | 143 | 91 | 79 | 160
9 | 55 | 68 | 85 | 100 | 156 | 96 | 84 | 172
10 | 58 | 70 | 89 | 104 | 165 | 102 | 87 | 180
11 | 60 | 73 | 92 | 109 | 175 | 105 | 91 | 191
12 | 62 | 76 | 96 | 115 | 185 | 109 | 95 | 203
13 | 65 | 79 | 99 | 120 | 195 | 113 | 99 | 215
14 | 67 | 81 | 103 | 125 | 205 | 117 | 103 | 226
15 | 69 | 84 | 106 | 130 | 214 | 121 | 107 | 238
16 | 72 | 87 | 109 | 136 | 223 | 125 | 111 | 249
17 | 74 | 89 | 113 | 141 | 231 | 129 | 115 | 260
18 | 76 | 92 | 116 | 146 | 238 | 133 | 119 | 271
19 | 79 | 95 | 120 | 151 | 246 | 137 | 123 | 282
20 | 81 | 97 | 123 | 156 | 253 | 141 | 127 | 293
21 | 83 | 100 | 126 | 161 | 260 | 144 | 131 | 302
22 | 85 | 102 | 130 | 166 | 268 | 148 | 135 | 311
23 | 87 | 105 | 133 | 171 | 275 | 152 | 139 | 318
24 | 90 | 108 | 137 | 176 | 283 | 156 | 143 | 325
25 | 92 | 110 | 140 | 181 | 290 | 160 | 147 | 333
26 | 94 | 113 | 143 | 186 | 298 | 164 | 151 | 340
27 | 96 | 115 | 147 | 190 | 305 | 168 | 155 | 347
28 | 98 | 118 | 150 | 195 | 313 | 172 | 158 | 355
29 | 100 | 120 | 153 | 200 | 320 | 176 | 162 | 362
30 | 103 | 124 | 158 | 207 | 331 | 182 | 168 | 373
31 | 105 | 127 | 162 | 212 | 338 | 186 | 172 | 381
32 | 107 | 129 | 165 | 217 | 346 | 190 | 176 | 388
33 | 109 | 131 | 169 | 222 | 353 | 194 | 180 | 396
34 | 112 | 132 | 172 | 227 | 361 | 198 | 184 | 403
35 | 114 | 134 | 175 | 232 | 369 | 202 | 188 | 411
36 | 116 | 136 | 179 | 236 | 376 | 206 | 192 | 418
37 | 118 | 138 | 182 | 241 | 384 | 210 | 196 | 426
38 | 120 | 140 | 186 | 246 | 391 | 214 | 200 | 433
39 | 122 | 142 | 189 | 251 | 398 | 218 | 204 | 440
40 | 124 | 144 | 192 | 256 | 404 | 222 | 208 | 448
41 | 126 | 146 | 196 | 261 | 411 | 226 | 212 | 455
42 | 130 | 148 | 199 | 266 | 418 | 230 | 216 | 463
43 | 132 | 150 | 203 | 271 | 425 | 234 | 220 | 470
44 | 134 | 151 | 206 | 276 | 432 | 238 | 224 | 478
45 | 137 | 153 | 210 | 280 | 439 | 242 | 228 | 485
46 | 139 | 155 | 213 | 285 | 446 | 246 | 232 | 492
47 | 141 | 156 | 216 | 290 | 452 | 250 | 236 | 500
48 | 143 | 158 | 220 | 295 | 459 | 254 | 240 | 507
49 | 146 | 160 | 223 | 300 | 466 | 258 | 244 | 515
50 | 148 | 163 | 229 | 308 | 478 | 264 | 250 | 528
51 | 152 | 165 | 232 | 313 | 485 | 264 | 254 | 543
52 | 154 | 165 | 236 | 318 | 492 | 272 | 258 | 543
53 | 156 | 169 | 239 | 323 | 499 | 276 | 262 | 559
54 | 159 | 169 | 243 | 328 | 506 | 280 | 266 | 559
55 | 160 | 172 | 246 | 333 | 513 | 283 | 270 | 572
56 | 162 | 172 | 250 | 338 | 520 | 288 | 275 | 572
57 | 162 | 175 | 253 | 343 | 527 | 291 | 279 | 584
58 | 162 | 175 | 256 | 348 | 533 | 296 | 283 | 584
59 | 162 | 178 | 260 | 353 | 540 | 299 | 287 | 597
60 | 162 | 178 | 263 | 358 | 547 | 304 | 290 | 597
61 | 169 | 181 | 267 | 363 | 554 | 307 | 295 | 612
62 | 170 | 181 | 270 | 367 | 560 | 313 | 297 | 612
63 | 172 | 184 | 274 | 372 | 568 | 315 | 303 | 627
64 | 173 | 184 | 277 | 377 | 571 | 321 | 303 | 627
65 | 174 | 187 | 281 | 382 | 582 | 323 | 310 | 642
66 | 174 | 187 | 284 | 387 | 582 | 329 | 310 | 642
67 | 174 | 191 | 287 | 392 | 593 | 331 | 318 | 657
68 | 174 | 191 | 291 | 397 | 593 | 337 | 318 | 657
69 | 174 | 194 | 294 | 402 | 604 | 339 | 325 | 672
70 | 174 | 194 | 298 | 407 | 604 | 345 | 325 | 672

215.63 Payment of Postage

215.631 Methods of Payment

Both GXG Document service shipments and Non-Document service shipments may be paid by postage stamps, postage validation imprinter (PVI) labels, or postage meter stamps.

215.632 Official Mail

GXG shipments that are originated by federal agencies and departments are subject to the same postage payment requirements, weight and size limits, customs requirements, and general conditions for mailing as GXG shipments that are originated by non-governmental entities.

Both GXG Document Service shipments and Non-Document service shipments mailed by Postal Service entities must bear the G-10 permit indicia that is prescribed for all USPS official mail. There is a 70-pound weight limit for USPS-originated GXG shipments going to all authorized destinating countries. See section 144.2.

215.7 Weight and Size Limits

215.71 General

The weight, dimensional weight, and size limits set forth in this section are the same for both GXG Document service shipments and Non-Document service shipments.

215.72 Weight Limits

The maximum weight is 70 pounds.

215.73 Dimensional Weight

The equation for determining dimensional weight is as follows:

Dimensional Weight = (Length × Width × Height)/166

When determining the dimensional weight, each individual measurement must be rounded down to the nearest whole inch.

215.74 Size Limits

215.741 Minimum Size

Items must be large enough—approximately 9 inches in height and 12 inches in length—so that a GXG Air Waybill/Shipping Invoice can be affixed on the face of the item.

215.742 Maximum Size

Length and girth combined may not exceed 108 inches. Individual dimensions may not exceed 46 inches in length, 35 inches in width, and 46 inches in height.

215.8 Preparation Requirements

215.81 Preparation by the Sender

a. Prepare the item as a flat or package using either the GXG envelope provided by the Postal Service or mailer-supplied packaging. Mailers using their own envelope or wrapping must also affix a GXG sticker (Item 107RGG3) to the front and back of the item.

b. Complete the GXG Air Waybill/Shipping Invoice (Item 11FGG1) to show the complete address of the sender and addressee. Items cannot be addressed to a post office box or an APO or FPO address.

c. Global Express Guaranteed Document Service Shipment Preparation: Complete the Shipment Details to show the contents in detail including description and estimated cost of reconstruction. A separate customs declaration is not used. Sign and date the mailer agreement.

d. Global Express Guaranteed Non-Document Service Shipment Preparation: Complete the Shipment Details to show the contents in detail including description, valuation, and country of manufacture. Non-Document service shipments cannot have a value that exceeds $2,499. A separate customs declaration is not used. Sign and date the mailer agreement.

215.82 Preparation by Acceptance Employee

a. Check that the sender has properly completed the GXG Air Waybill/Shipping Invoice.

b. Complete the postage transaction if the item is not prepaid.

c. Complete the “Origin” information.

d. Remove the customer's copy of the GXG Air Waybill/Shipping Invoice and give it to the customer. Process the GXG Air Waybill/Shipping Invoice according to directions on the shipping document.

215.83 Customs Forms Not Required

The GXG Air Waybill/Shipping Invoice contains space for the sender to declare the contents. A separate postal customs declaration is not used.

* * * * *

Individual Country Listings

[The Individual Country Listings in the International Mail Manual will be revised to reflect the availability of GXG service and the applicable postage rates.]

* * * * *

Stanley F. Mires,
Chief Counsel, Legislative.

[FR Doc. 00-25092 Filed 9-28-00; 8:45 am]

BILLING CODE 7710-12-P